GENERAL SERVICES ADMINISTRATION

Office of Communications; Cancellation of a Standard Form

AGENCY: General Services Administration.

ACTION: Notice.

SUMMARY: The Department of State is cancelling the following Optional Form because of low usage:

OF 129, Individual Property Record Card

DATES: Effective November 20, 2000.

FOR FURTHER INFORMATION CONTACT: Ms. Barbara Williams, General Services Administration, (202) 501-0581.

Dated: October 20, 2000.
Barbara M. Williams,
Deputy Standard and Optional Forms Management Officer.

[FR Doc. 00-29616 Filed 11-17-00; 8:45 am]

BILLING CODE 6820-34-M